SMALL BUSINESS ADMINISTRATION

[License No. 06/06-0306]

Council Oak Investment Corporation; Surrender of License of Small Business Investment Company

Pursuant to the authority granted to the United States Small Business Administration under the Small Business Investment Act of 1958, as amended, under section 309, and the Small Business Administration Rules and Regulations (13 CFR 107.1900) to function as a small business investment company under the Small Business Investment Company License No. 06/06-0306 issued to Council Oak Investment Corporation, said license is hereby declared null and void.

Bailey DeVries,
Associate Administrator, Office of Investment and Innovation, United States Small Business Administration.

[FR Doc. 2022-23623 Filed 10-28-22; 8:45 am]

BILLING CODE 8026-09-P